SECURITIES AND EXCHANGE COMMISSION

In the Matter of GrowLife, Inc., File No. 500-1; Order of Suspension of Trading

April 10, 2014.

It appears to the Securities and Exchange Commission that the public interest and the protection of investors require a suspension of trading in the securities of GrowLife, Inc. (“GrowLife”) because of concerns regarding the accuracy and adequacy of information in the marketplace and potentially manipulative transactions in GrowLife's common stock. GrowLife is a Delaware corporation based in Woodland Hills, California. It is quoted on OTCBB and OTC Link under the symbol PHOT.

The Commission is of the opinion that the public interest and the protection of investors require a suspension of trading in the securities of the above-listed company.

Therefore, it is ordered, pursuant to Section 12(k) of the Securities Exchange Act of 1934, that trading in the securities of the above-listed company is suspended for the period from 9:30 a.m. e.d.t. on April 10, 2014, through 11:59 p.m. e.d.t. on April 24, 2014.

By the Commission.
Kevin M. O'Neill,
Deputy Secretary.

[FR Doc. 2014-08475 Filed 4-10-14; 4:15 pm]

BILLING CODE 8011-01-P